DEPARTMENT OF COMMERCE

International Trade Administration

[A-570-863]

Honey from the People's Republic of China: Notice of Partial Rescission of Antidumping Duty Administrative Review

AGENCY: Import Administration, International Trade Administration, Department of Commerce.

SUMMARY: On January 31, 2005, the Department of Commerce (the Department) published in the Federal Register (70 FR 4818) a notice announcing the initiation of the administrative review of the antidumping duty order on honey from the People's Republic of China (PRC). The period of review (POR) is December 1, 2003, to November 30, 2004. On June 22, 2005, petitioners and Wuhan Bee Healthy Co., Ltd. (Wuhan Bee) withdrew their requests for an administrative review of Wuhan Bee. This review is now being rescinded for Wuhan Bee.

EFFECTIVE DATE: July 21, 2005.

FOR FURTHER INFORMATION CONTACT: Anya Naschak or Kristina Boughton, AD/CVD Operations, Office 9, Import Administration, International Trade Administration, U.S. Department of Commerce, 14th Street and Constitution Avenue, NW, Washington, DC 20230; telephone; (202) 482-6375 and (202) 482-8173, respectively.

SUPPLEMENTARY INFORMATION:

Background

On December 10, 2001, the Department of Commerce published in the Federal Register an antidumping duty order covering honey from the PRC. See Notice of Amended Final Determination of Sales at Less Than Fair Value and Antidumping Duty Order; Honey from the People's Republic of China, 66 FR 63670 (December 10, 2001). On December 1, 2004, the Department published a Notice of Opportunity to Request an Administrative Review of Antidumping or Countervailing Duty Order, Finding, or Suspended Investigation, 69 FR 69889. On December 30, 2004, the American Honey Producers Association and the Sioux Honey Association (collectively, petitioners), requested, in accordance with section 351.213(b) of the Department's regulations, an administrative review of the antidumping duty order on honey from the PRC for 19 companies covering the period December 1, 2003, through November 30, 2004. On December 30, 2004, and January 3, 2005, nine Chinese companies requested an administrative review of their respective companies. The Department notes that petitioners' request covered these nine companies as well.

On January 31, 2005, the Department initiated an administrative review of 19 Chinese companies. See Initiation of Antidumping and Countervailing Duty Administrative Reviews and Request for Revocation in Part, 70 FR 4818 (January 31, 2005). On March 29, 2005, the Department rescinded this review with respect to seven companies because petitioners, the only party to request a review for these companies, withdrew their request for review. See Notice of Partial Rescission of Antidumping Duty Administrative Review: Honey from the People's Republic of China, 70 FR 15836 (March 29, 2005).

On May 25, 2005, the Department rescinded this review with respect to Anhui Native Produce Import and Export Corp. and Inner Mongolia Autonomous Region Native Produce and Animal By-Products Import and Export Corporation because petitioners, the only party to request a review for these companies, withdrew their request for review. See Honey from the People's Republic of China: Notice of Partial Rescission of Antidumping Duty Administrative Review, 70 FR 30082 (May 25, 2005).

On June 22, 2005, petitioners filed a letter withdrawing their request for review of Wuhan Bee (respondent), and on the same day, respondent also filed a letter withdrawing its request for an administrative review. Both parties originally requested a review of Wuhan Bee and both parties requested that the Department withdraw the review despite the request coming after the 90-day withdrawal period because both parties have withdrawn their original requests for review and because the Department has not yet committed substantial resources to reviewing Wuhan Bee. Further, both parties stated that the Department may rescind a review after the 90-day deadline, according to its regulations, when it determines it is reasonable. Respondent further noted that there are no other Wuhan Bee importers or other interested parties that could pose any valid objection to the rescission of the review.

Rescission of Review

The applicable regulation, 19 CFR 351.213(d)(1), states that if a party that requested an administrative review withdraws the request within 90 days of the publication of the notice of initiation of the requested review, the Secretary will rescind the review. It further states that the Secretary may extend this time limit if the Secretary finds it reasonable to do so. Although petitioners and respondent withdrew their review requests with respect to Wuhan Bee after the 90-day deadline, the Department finds it reasonable to extend the deadline for parties to withdraw their request for review with respect to Wuhan Bee in accordance with 19 CFR 351.213(d)(1). The Department finds it reasonable to extend the withdrawal deadline with respect to Wuhan Bee because the Department has not yet committed substantial resources to reviewing Wuhan Bee in the instant review and because both parties who requested the review have subsequently withdrawn their requests. Therefore, we are partially rescinding this review of the antidumping duty order on honey from the PRC covering the period December 1, 2003, through November 30, 2004, with respect to Wuhan Bee.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751 and 777(i) of the Act and 19 CFR 351.213(d)(4).

Dated: July 14, 2005.
Susan H. Kuhbach,
Acting Deputy Assistant Secretary for Import Administration.

[FR Doc. E5-3909 Filed 7-20-05; 8:45 am]

BILLING CODE 3510-DS-S